DEPARTMENT OF COMMERCE

International Trade Administration

Request for Public Input on Sectoral Dialogues To Inform Work on Standards Cooperation Under the U.S.-India Strategic and Commercial Dialogue

ACTION: Notice.

SUMMARY: With this notice, the U.S. Department of Commerce (USDOC), on behalf of the Administration, is seeking public input to identify priority sectors in which the United States and India will pursue cooperative dialogues under the U.S.-India Strategic and Commercial Dialogue (S&CD) to address standards-related trade barriers. The aim of the cooperative dialogues is for the private sector to produce concrete recommendations for the U.S. and Indian governments on breaking down barriers related to standards, regulatory, and conformity assessment practices to increase bilateral trade. Stakeholder input will be used by the USDOC, in consultation with its interagency partners, to identify those sectors where cooperative work will yield the most benefits for bilateral trade from a U.S. perspective. The USDOC will also use stakeholder input to seek agreement from its Indian government counterparts on the sectors in which to begin cooperative work.

Criteria for selection include: The nature of the existing standards-related barriers in the sector (medical devices, ICT products, oil and gas, etc.), including whether the standards related measures that are affecting bilateral trade are subject to regulatory discretion or have limited potential for adjustment due to legislated mandates; the relative estimated trade impact of eliminating the standards-related barriers in the sector; and whether private sector representatives from the sector—both U.S. and Indian—are committed to leading a cooperative dialogue to produce concrete recommendations for the U.S. and Indian governments on breaking down barriers in the sector. Selection will also take into account the willingness of U.S. and Indian regulators to become involved in this targeted work, as well as if another bilateral forum relevant to the suggested issue already exists.

In order for a sector to be considered, stakeholder input must identify private-sector leaders from the United States and India that have mutually agreed to coordinate and lead a cooperative dialogue among stakeholders in the sector from both the United States and India to develop recommendations for the U.S. and Indian governments on breaking down standards-related barriers in their sector. Confirmation of such agreement is encouraged. See additional requirements for submissions in the contents below.

The private sector cooperative dialogue leaders from the selected priority sectors are expected to begin work as early as possible in 2016 and to report their preliminary recommendations to the U.S. and Indian governments at the next meeting of the U.S.-India S&CD, expected to take place in India in mid-2016. At the discretion of the U.S. and Indian private sector cooperative dialogue leads, U.S. and Indian government officials will be available to provide information to facilitate the development of private sector recommendations. Selection of future priority sectors will be evaluated on the basis of the performance of the cooperative dialogues in the initially selected priority sectors.

FOR FURTHER INFORMATION CONTACT: Michael Boyles, Manager, Emerging Issues, Office of Standards and Investment Policy, International Trade Administration, by telephone at (202) 482-1935 (this is not a toll-free number) or email at Michael.Boyles@trade.gov.

SUPPLEMENTARY INFORMATION: In January 2015, President Obama and Prime Minister Modi decided to elevate the bilateral commercial and economic partnership by establishing the first-ever U.S.-India Strategic and Commercial Dialogue (S&CD) which was held in Washington, DC on September 22, 2015. The S&CD is the signature, annual forum for policy discussions between the United States Government and the Government of India. The United States and Indian Governments are using this vehicle to advance their shared priorities of generating economic growth, creating jobs, and strengthening the middle class. U.S. Secretary of State John Kerry and U.S. Secretary of Commerce Penny Pritzker co-chaired the dialogue with their Indian counterparts, Minister of External Affairs Sushma Swaraj and Minister of Commerce and Industry Nirmala Sitharaman.

Below are highlights of work agreed to on standards cooperation at the September 22, 2015 S&CD:

Standards Cooperation: The United States and India are working together to participate in the development of international standards and technical regulations to boost trade and help reduce administrative and logistical burdens, which disproportionately affect small and medium sized enterprises. The United States and India will engage their respective industries to identify up to two sectors where standards and conformity assessment-focused cooperative dialogues could lead to mutual benefit and increased trade. To support the removal of barriers that impact the global supply chain, the United States and India will exchange best practices for the operation of national Enquiry Points under the World Trade Organization Agreement on Technical Barriers to Trade and will explore opportunities for more cooperation on reference standards between India's National Physical Laboratories (NPL) and the National Institute of Standards and Technology (NIST). The United States and India announced a private sector-led collaboration to update a bilateral standards portal, which facilitates the sharing of information to improve industry understanding of market access requirements in both countries.

Request For Public Input: Submissions relevant to this request for public input should be submitted no later than 60 days after the date of this notice and can be submitted online or in writing.

Written submissions should be directed to Michael Boyles, Office of Standards and Investment Policy, Industry and Analysis, U.S. Department of Commerce, Room 22025, 14th and Constitution Avenue NW., Washington, DC 20230.

Online submissions should be submitted using http://www.regulations.gov.

In order to ensure the timely receipt and consideration of comments, ITA strongly encourages commenters to make online submissions using http://www.regulations.gov. Comments should be submitted under ITA-2015-0005. To find this docket, enter the docket number in the “Enter Keyword or ID” Window at the http://www.regulations.gov home page and click “Search.” The site will provide a search-results page listing all documents associated with the docket number. Find a reference to this notice by selecting “Notice” under “Document Type” on the search-results page, and click on the link entitled “Comment now!” The http://www.regulations.gov Web site provides the option of making submissions by filling in a comments field, or by attaching a document. ITA prefers submissions to be provided in an attached document. (For further information on using http://www.regulations.gov, please consult the resources provided on the Web site by clicking on the “Help” tab.)

All comments and recommendations submitted in response to this notice will be made available to the public so should not include any privileged or confidential business information. The file name should begin with the character “P” (signifying that the comments contain no privileged or confidential business information and can be posted publicly), followed by the name of the person or entity submitting the comments. Written submissions should include an original and five (5) copies.

Please do not attach separate cover letters to electronic submissions; rather, include any information that might appear in a cover letter in the comments themselves. Similarly, to the extent possible, please include any exhibits, annexes, or other attachments in the same file as the submission itself, not as separate files.

Required Content for Submissions: USDOC seeks public input on the sectors that would benefit most from focused engagement by U.S. and Indian private-sector leaders and government representatives under the S&CD to address trade barriers related to standards, regulatory, and conformity assessment practices to increase bilateral trade. Criteria for selection include: The nature of the existing standards-related barriers in the sector (medical devices, ICT products, oil and gas, etc.), including whether the standards related measures that are affecting bilateral trade are subject to regulatory discretion or have limited potential for adjustment due to legislated mandates; the relative estimated trade impact of eliminating the standards-related barriers in the sector; and whether private sector representatives from the sector—both U.S. and Indian—are committed to leading a cooperative dialogue to produce concrete recommendations for the U.S. and Indian governments on breaking down the barriers in the sector. Selection will also take into account the willingness of U.S. and Indian regulators to become involved in this targeted work.

Submissions should include: A description of the main standards-related barrier(s) affecting U.S.-India trade in the sector (e.g., lack of transparency by U.S. and/or Indian officials in developing standards and/or regulations affecting the sector; U.S. and Indian officials applying different standards or technical regulations to products or services in the sector; testing or other requirements that are difficult to meet; and/or requirements being applied by U.S. and/or Indian officials only when products or services in the sector are imported from the other's market), including whether the areas involved are subject to regulatory discretion or have limited potential for adjustment due to legislated mandates; the relative estimated trade impact of eliminating the standards-related barriers in the sector; and data on bilateral trade in the sector for at least three years to help evaluate trade trends.

Submissions must identify private-sector leaders from the United States and India that have mutually agreed to coordinate and lead a cooperative dialogue among stakeholders in the sector from both the United States and India to develop recommendations for the U.S. and Indian governments on breaking down standards-related barriers in their sector. Confirmation of such agreement is encouraged. No U.S. Government funding will be provided for these activities.

Additionally, submissions should provide information on current and previous efforts to address standards-related barriers to bilateral trade in the sector, including under other government-to-government initiatives, to help evaluate the potential for liberalization of barriers identified. Submissions should also provide information, if known, about the U.S. and Indian government authorities, in particular regulators, whose actions impact the sector, and who would need to be involved in implementing the recommendations that the private sector leads will develop under a U.S.-India cooperative dialogue on the subject sector. Before finalizing priority sector selection, U.S. and Indian government S&CD leads will confirm that their respective relevant regulators support targeted work in the sector. Additional information also is welcome that would help USDOC and its interagency partners evaluate prospects for growth in bilateral trade in the sector, if this work is undertaken.

Dated: December 4, 2015.
Chris Rosettie,
Director, Office of Standards and Investment Policy, International Trade Administration.

[FR Doc. 2015-31430 Filed 12-11-15; 8:45 am]

BILLING CODE 3510-DR-P